DEPARTMENT OF HEALTH AND HUMAN SERVICES

National Institutes of Health

Office of the Director, National Institutes of Health; Notice of Meeting

Notice is hereby given of a meeting of the HEAL (Helping to End Addiction Long-term) Multi-Disciplinary Working Group.

The meeting will be open to the public as indicated below. Seating is limited to space available. Individuals who plan to attend the meeting and need special assistance, such as sign language interpretation or other reasonable accommodations, should notify the Contact Person listed below in advance of the meeting.

Name of Working Group: HEAL Multi-Disciplinary Working Group.

Date: May 17, 2019.

Open: 8:30 a.m. to 5:00 p.m.

Agenda: Provide an introduction to the Helping to End Addiction Long-Term (HEAL) Initiatives research plan and introduction to multiple projects.

Videocast: For those not able to attend in person, this meeting will be live webcast at: http://videocast.nih.gov/.

Place: National Institutes of Health, Building 1, Wilson Hall, 1 Center Drive, Bethesda, MD 20892.

Contact Person: Rebecca G. Baker, Ph.D., Office of the Director, National Institutes of Health, 1 Center Drive, Room 103A, Bethesda, MD 20892, (301) 402-1994, Rebecca.baker@nih.gov.

Any interested person may file written comments with the committee by forwarding the statement to the Contact Person listed on this notice. The statement should include the name, address, telephone number and when applicable, the business or professional affiliation of the interested person.

In the interest of security, NIH has instituted stringent procedures for entrance onto the NIH campus. All visitors must go through a security check at the building entrance to receive a visitor's badge. All visitor vehicles, including taxicabs, hotel, and airport shuttles will be inspected before being allowed on campus. Visitors will be asked to show one form of identification (for example, a government-issued photo ID, driver's license, or passport) and to state the purpose of their visit.

Information is also available on the Office of the Director for the NIH HEAL Initiative℠ home page: https://www.nih.gov/research-training/medical-research-initiatives/heal-initiative where an agenda and any additional information for the meeting will be posted when available.

Dated: April 16, 2019.
Sylvia L. Neal,
Program Analyst, Office of Federal Advisory Committee Policy.

[FR Doc. 2019-07963 Filed 4-19-19; 8:45 am]

BILLING CODE 4140-01-P